DEPARTMENT OF COMMERCE

International Trade Administration

(A-570-846)

Brake Rotors From the People's Republic of China: Final Results and Partial Rescission of the Sixth Antidumping Duty Administrative Review and Final Results of the Ninth New Shipper Review

AGENCY: Import Administration, International Trade Administration, Department of Commerce.

ACTION: Notice of final results and partial rescission of the sixth antidumping duty administrative review and final results of the ninth new shipper review.

SUMMARY: On March 5, 2004, the Department of Commerce published the preliminary results and preliminary partial rescission of the sixth antidumping duty administrative review, and the preliminary results and final rescission of the ninth new shipper review of the antidumping duty order on brake rotors from the People's Republic of China. See Brake Rotors from the People's Republic of China: Preliminary Results and Preliminary Partial Rescission of the Sixth Antidumping Duty Administrative Review and Preliminary Results and Final Rescission of the Ninth New Shipper Review, 69 FR 10402 (March 5, 2004) (“Preliminary Results”). These reviews examined 21 exporters¹ (“the respondents”), five of which are exporters included in three exporter/producer combinations and one of which is a new shipper. The period of review is April 1, 2002, through March 31, 2003 (“POR”). We gave interested parties an opportunity to comment on our preliminary results.

¹ The names of the respondents in the sixth administrative review are as follows: (1) China National Industrial Machinery Import & Export Corporation (“CNIM”); (2) Laizhou Automobile Brake Equipment Company, Ltd. (“LABEC”); (3) Longkou Haimeng Machinery Co., Ltd. (“Longkou Haimeng”); (4) Laizhou Hongda Auto Replacement Parts Co., Ltd. (“Hongda”); (5) Hongfa Machinery (Dalian) Co., Ltd. (“Hongfa”); (6) Qingdao Gren (Group) Co. (“GREN”); (7) Qingdao Meita Automotive Industry Company, Ltd. (“Meita”); (8) Shandong Huanri (Group) General Company (“Huanri General”); (9) Yantai Winhere Auto-Part Manufacturing Co., Ltd. (“Winhere”); (10) Zibo Luzhou Automobile Parts Co., Ltd. (“ZLAP”); (11) Longkou TLC Machinery Co., Ltd (“LKTLC”); (12) Zibo Golden Harvest Machinery Limited Company (“Golden Harvest”); (13) Shanxi Fengkun Metallurgical Limited Company Hengtai Brake System Co., Ltd. (“Hengtai”); (16) China National Machinery and Equipment Import & Export (Xianjiang) Corporation (“Xianjiang”); (17) China National Automotive Industry Import & Export Corporation (“CAIEC”); (18) Laizhou CAPCO Machinery Co., Ltd. (“Laizhou CAPCO”); (19) Laizhou Luyuan Automobile Fittings Co. (“Laizhou Luyuan”); and (20) Shenyang Honbase Machinery Co., Ltd. (“Shenyang Honbase”). The respondent in the new shipper review is (21) Laizhou City Luqi Machinery Co., Ltd. (“Luqi”).

The excluded exporter/producer combinations are: (1) Xianjiang/Zibo Botai Manufacturing Co., Ltd.; (2) CAIEC/Laizhou CAPCO; (3) Laizhou CAPCO/Laizhou CAPCO; (4) Laizhou Luyuan/Laizhou Luyuan or Shenyang Honbase; or (5) Shenyang Honbase/Laizhou Luyuan or Shenyang Honbase.

Based on the additional publicly available information placed on the record for these final results and the comments received from the interested parties, we have made changes in the margin calculations for the respondents in these reviews. The final weighted-average dumping margins for the reviewed firms are listed below in the section entitled “Final Results of Reviews.”

EFFECTIVE DATE: July 13, 2004.

FOR FURTHER INFORMATION CONTACT: Terre Keaton or Brian Smith, Import Administration, International Trade Administration, U.S. Department of Commerce, 14th Street and Constitution Avenue, N.W., Washington, D.C. 20230; telephone: (202) 482-1280, or (202) 482-1766, respectively.

SUPPLEMENTARY INFORMATION:

Background

On March 5, 2004, the Department published in the Federal Register the Preliminary Results (see 69 FR 10402).

On March 25, 2004, and in accordance with 19 CFR 351.301(c)(3)(ii), the petitioner&² submitted additional publicly available information for consideration in the final results.

² The petitioner is the Coalition for the Preservation of American Brake Drum and Rotor Aftermarket Manufacturers.

On May 10, 2004, the petitioner submitted its case brief, and on May 17, 2004, the respondents submitted a rebuttal brief.

Scope of Order

The products covered by this order are brake rotors made of gray cast iron, whether finished, semifinished, or unfinished, ranging in diameter from 8 to 16 inches (20.32 to 40.64 centimeters) and in weight from 8 to 45 pounds (3.63 to 20.41 kilograms). The size parameters (weight and dimension) of the brake rotors limit their use to the following types of motor vehicles: automobiles, all-terrain vehicles, vans and recreational vehicles under “one ton and a half,” and light trucks designated as “one ton and a half.”

Finished brake rotors are those that are ready for sale and installation without any further operations. Semi-finished rotors are those on which the surface is not entirely smooth, and have undergone some drilling. Unfinished rotors are those which have undergone some grinding or turning.

These brake rotors are for motor vehicles, and do not contain in the casting a logo of an original equipment manufacturer (“OEM”) which produces vehicles sold in the United States (e.g., General Motors, Ford, Chrysler, Honda, Toyota, Volvo). Brake rotors covered in this order are not certified by OEM producers of vehicles sold in the United States. The scope also includes composite brake rotors that are made of gray cast iron, which contain a steel plate, but otherwise meet the above criteria. Excluded from the scope of this order are brake rotors made of gray cast iron, whether finished, semifinished, or unfinished, with a diameter less than 8 inches or greater than 16 inches (less than 20.32 centimeters or greater than 40.64 centimeters) and a weight less than 8 pounds or greater than 45 pounds (less than 3.63 kilograms or greater than 20.41 kilograms).

Brake rotors are currently classifiable under subheading 8708.39.5010 of the Harmonized Tariff Schedule of the United States (“HTSUS”). Although the HTSUS subheading is provided for convenience and customs purposes, our written description of the scope of this order is dispositive.

Partial Rescission of Administrative Review

Pursuant to 19 CFR 351.213(d)(3), we continue to find that no shipments of subject merchandise were made to the United States during the POR by the exporters which are part of the three exporter/producer combinations (i.e., Xianjiang, CAIEC, Laizhou CAPCO, Laizhou Luyuan and Shenyang Honbase) which received zero rates in the less-than-fair-value (“LTFV”) investigation, or the four exporters (i.e., Shanxi Fengkun, Hengtai, Golden Harvest and Xumingyuan) which made no-shipment claims (see Preliminary Results at 69 FR 10404). Therefore, in accordance with 19 CFR 351.213(d)(3), we are rescinding the administrative review with respect to all of the above-mentioned companies because we found no evidence that these companies made shipments of the subject merchandise during the POR.

Analysis of Comments Received

All issues raised in the case brief are addressed in the Issues and Decision Memorandum (“Decision Memo”), which is hereby adopted by this notice. A list of the issues raised, all of which are in the Decision Memo, is attached to this notice as an Appendix. Parties can find a complete discussion of all issues raised in the briefs and the corresponding recommendations in this public memorandum which is on file in the Central Records Unit, room B-099 of the main Department building. In addition, a complete version of the Decision Memo can be accessed directly on the Web at http://ia.ita.doc.gov/. The paper copy and electronic version of the Decision Memo are identical in content.

Changes Since the Preliminary Results

Based on the use of additional publicly available information and the comments received from the interested parties, we have made changes in the margin calculation for each respondent. For a discussion of these changes, see the “Margin Calculations” section of the Decision Memo.

For the final results, we calculated average surrogate percentages for factory overhead, selling, general and administrative expenses, and profit using the 2002-2003 financial data of Kalyani Brakes Limited and Mando Brake Systems India Limited. See Decision Memo at Comments 1 and 2.

We corrected a missing data problem in ZLAP's factors of production database which we inadvertently did not do in the preliminary results.

Final Results of Reviews

We determine that the following weighted-average margin percentages exist for the following companies during the period April 1, 2002, through March 31, 2003:

Manufacturer/producer/exporter | Margin Percent
China National Industrial Machinery Import & Export Corporation | 0.17 (de minimis)
Hongfa Machinery (Dalian) Co., Ltd. | 0.00
Laizhou Automobile Brake Equipment Company, Ltd. | 0.01 (de minimis)
Laizhou City Luqi Machinery Co., Ltd. | 0.00
Laizhou Hongda Auto Replacement Parts Co., Ltd. | 0.00
Longkou Haimeng Machinery Co., Ltd. | 0.01 (de minimis)
Longkou TLC Machinery Co., Ltd. | 0.02 (de minimis)
Qingdao Gren (Group) Co. | 0.04 (de minimis)
Qingdao Meita Automotive Industry Company, Ltd. | 0.14 (de minimis)
Shandong Huanri (Group) General Company | 0.00
Yantai Winhere Auto-Part Manufacturing Co., Ltd. | 0.02 (de minimis)
Zibo Luzhou Automobile Parts Co., Ltd. | 0.00
PRC NME entity | 43.32

Assessment Rates

The Department shall determine, and US Customs and Border Protection (“CBP”) shall assess, antidumping duties on all appropriate entries. Pursuant to 19 CFR 351.212(b)(1), we calculated importer- or customer-specific ad valorem duty assessment rates based on the ratio of the total amount of the dumping margins calculated for the examined sales to the total entered value of those same sales. Where the respondent did not report actual entered value, we calculated individual importer- or customer-specific assessment rates by aggregating the dumping margins calculated for all of the U.S. sales examined and dividing that amount by the total quantity of the sales examined. In accordance with 19 CFR 351.106(c)(2), we will instruct CBP to liquidate without regard to antidumping duties all entries of subject merchandise during the POR for which the importer-specific assessment rate is zero or de minimis (i.e., less than 0.50 percent). To determine whether the per-unit duty assessment rates are de minimis (i.e., less than 0.50 percent), in accordance with the requirement set forth in 19 CFR 351.106(c)(2), we calculated importer- or customer-specific ad valorem ratios based on export prices. The Department will issue appropriate assessment instructions directly to CBP within 15 days of publication of these final results of review. For entries of the subject merchandise during the POR from companies not subject to this review, we will instruct CBP to liquidate them at the cash deposit rate in effect at the time of entry.

Cash Deposit Requirements

Bonding will no longer be permitted to fulfill security requirements for shipments of brake rotors from the PRC that are manufactured and exported by Luqi, and entered, or withdrawn from warehouse, for consumption on or after the publication date of the final results of the new shipper review.

The following deposit rates shall be required for merchandise subject to the order, entered, or withdrawn from warehouse, for consumption on or after the publication date of these final results, as provided by section 751(a)(1) and (a)(2)(B) of the Act: (1) the cash deposit rate for CNIM, GREN, Haimeng, Hongda, Hongfa, Huanri General, LABEC, LKTLC, Luqi (i.e., for subject merchandise manufactured and exported by Luqi), Meita, Winhere and ZLAP, will be zero; (2) the cash deposit rate for PRC exporters who received a separate rate in a prior segment of the proceeding will continue to be the rate assigned in that segment of the proceeding; (3) the cash deposit rate for the PRC NME entity and for subject merchandise exported by Luqi but not manufactured by it will continue to be the PRC-wide rate (i.e., 43.32 percent); and (4) the cash deposit rate for non-PRC exporters of subject merchandise from the PRC will be the rate applicable to the PRC exporter that supplied that exporter. These deposit requirements shall remain in effect until publication of the final results of the next administrative review.

This notice also serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties.

This notice also serves as the only reminder to parties subject to administrative protective orders (“APO”) of their responsibility concerning the return or destruction of proprietary information disclosed under APO in accordance with 19 CFR 351.305. Timely written notification of the return/destruction of APO materials or conversion to judicial protective order is hereby requested. Failure to comply with the regulations and terms of an APO is a violation which is subject to sanction.

We are issuing and publishing these determinations and notice in accordance with sections 751(a)(1), 751(a)(2)(B), and 777(i) of the Act, and 19 CFR 351.213 and 351.214.

Dated: July 6, 2004.
James J. Jochum,
Assistant Secretary for Import Administration.

Appendix--Issues in Decision Memo

Comments

1. Whether to revise the methodology used in the preliminary results to calculate the surrogate selling, general and administrative expense (SG&A) for Kalyani Brakes Limited (Kalyani)

2. Whether to continue to use data contained in Rico Auto Industries Limited's (Rico) 2000-2001 financial statement to calculate surrogate ratios for factory overhead, SG&A and profit

[FR Doc. 04-15835 Filed 7-12-04; 8:45 am]

BILLING CODE 3510-DS-S